DEPARTMENT OF HOMELAND SECURITY

Coast Guard

33 CFR Part 165

[CGD01-03-019]

RIN 1625-AA00

Safety Zone; Wiscasset, ME, Maine Yankee Reactor Pressure Vessel Removal

AGENCY: Coast Guard, DHS.

ACTION: Temporary final rule.

SUMMARY: The Coast Guard is establishing temporary safety zones in the waters of the Back River, Montsweag Bay, between Bailey Point and Foxbird Island in Wiscasset, Maine, and around the transport barge during its transit to sea. These safety zones are needed to protect persons, facilities, vessels and others in the maritime community from the safety hazards associated with the handling, loading, and transportation of a major component of the Decommissioned Maine Yankee Nuclear Plant that is classified as Class 7 Hazardous Waste. Entry into these safety zones will be prohibited unless authorized by the Captain of the Port, Portland, Maine.

DATES: This rule is effective from 12 a.m. e.d.t. on April 15, 2003, until 12 a.m. e.d.t. on June 30, 2003.

ADDRESSES: Documents indicated in this preamble as being available in the docket are part of docket CGD01-03-019 and are available for inspection or copying at Marine Safety Office Portland, 27 Pearl Street, Portland, ME 04101 between the hours of 8 a.m. and 4 p.m., Monday through Friday, except Federal holidays.

FOR FURTHER INFORMATION CONTACT: Lieutenant R. F. Pigeon, Port Operations Department, Marine Safety Office Portland at (207) 780-3251.

SUPPLEMENTARY INFORMATION:

Request for Comments

We did not publish a notice of proposed rulemaking (NPRM) for this regulation. Under 5 U.S.C. 553(b)(B), the Coast Guard finds that good cause exists for not publishing an NPRM. Due to unpredictable water level changes in the Savannah River at the destination port and the effect of those changes on the transport's barge ability to transit in the Savannah River, the transport barge is now scheduled to arrive much earlier than the Coast Guard initially anticipated. Given these recently changed navigational conditions, the Coast Guard was unable to publish a NPRM in sufficient time before this rulemaking takes effect.

Under 5 U.S.C. 553(d)(3), the Coast Guard finds that good cause exists for making this rule effective less than 30 days after publication in the Federal Register. As previously stated, recent and unpredictable changes in the water levels in the Savannah River would effect the safe transit of the transport barge from the Maine Yankee Barge Slip in Wiscasset, Maine to its final destination at the Savannah River Site Boat Dock (mile 158). Due to these unpredictable changes in the river's navigability, and the barge's arrival occurring earlier than previously scheduled, the Coast Guard finds that good cause exists for making this temporary rule effective in less than 30 days after publication in the Federal Register.

Background and Purpose

Beginning on approximately May 1, 2003, Duratek/Chem Nuclear, Inc., the decommissioning contractor, will load and transport a reactor pressure vessel from the Decommissioned Maine Yankee Nuclear Plant onto a transport barge at the Maine Yankee barge slip in Wiscasset, Maine for shipment to the Savannah River Site Boat Dock (mile 158). The transport barge is scheduled to arrive at the Maine Yankee barge slip on approximately April 15, 2003. Once loaded, the barge will transit the Back River, Sheepscot River and Sheepscot Bay bound for sea. The departure date for the barge is expected to be approximately May 8, 2003.

These safety zones will be needed to ensure the safety of persons, facilities, vessels and others in the maritime community, including workers involved with the project, from the hazards associated with the handling, loading and transportation of a major component containing Class 7 hazardous waste from a decommissioned nuclear power plant onto a barge in this small cove. The Back River and Sheepscot River are narrow waterways and the tug and barge will require space to be able to maneuver safely. This moving safety zone will allow the barge adequate room to maneuver and freely transit outbound to sea with this hazardous cargo.

Dates for this project are subject to change based on conditions of navigation in the Savannah River necessary to transport the barge to its final destination.

Discussion of Rule

This rule establishes a temporary safety zone in the waters of the Back River, Montsweag Bay, within 250 yards of the transport barge moored at the Maine Yankee Barge Slip located in the cove between Bailey Point and Foxbird Island effective on the date of arrival of the barge and expiring upon the barge's departure. The tentative dates for arrival and departure are April 15, 2003, and May 8, 2003, respectively. This rule has an effective date until June 30, 2003, due to the possibility of additional changes in departure schedules.

This rule also establishes a safety zone 250 yards ahead and astern, and 100 yards aside (or to the edge of the navigable channel, whichever is less), of the transport barge during its transit outbound to sea. Entry into these safety zones will be prohibited unless authorized by the Captain of the Port, Portland, Maine.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS).

We expect the economic impact of this rule to be so minimal that a full regulatory evaluation under paragraph 10e of the regulatory policies and procedures of DHS is unnecessary. The effect of this rule will not be significant for several reasons: there will be minimal impact on the navigational channel, there is ample room to navigate around the zone, delays, if any, will be minimal, and broadcast notifications will be made to the maritime community advising them of the boundaries of the zone. During the outbound transit vessels will be able to arrange safe passage with the tug and transport barge via VHF radio.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. This rule will affect the following entities, some of which may be small entities: the owners or operators of vessels intending to transit through the safety zones between the dates of April 15, 2003, and June 30, 2003. However, these safety zones will not have a significant economic impact on a substantial number of small entities for the following reasons. There is ample room to navigate safely around the zones, delays, if any, would be minimal, and broadcast notifications will be made to the maritime community advising them of the boundaries of the zones.

Collection of Information

This rule would call for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local or tribal government, in the aggregate, or by the private sector of $100,000,000 or more in any one year. Though this proposed rule would not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that might disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations that Significantly Affect Energy Supply, Distribution, or Use. We have determined that it is not a “significant energy action” under that Order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Environment

We have analyzed this rule under Commandant Instruction M16475.lD, which guides the Coast Guard in complying with the National Environmental Policy Act of 1969 (NEPA)(42 U.S.C. 4321-4370f), and have concluded that there are no factors in this case that would limit the use of the categorical exclusion under section 2.B.2 of the Instruction. Therefore, this rule is categorically excluded, under figure 2-1, paragraph (34)(g), of the Instruction from further environmental documentation. A final “Environmental Analysis Check List” and a final “Categorical Exclusion Determination” will be available in the docket where indicated under ADDRESSES.

List of Subjects in 33 CFR Part 165

Harbors, Marine safety, Navigation (water), Reporting and recordkeeping requirements, Security measures, Waterways.

For the reasons discussed in the preamble, the Coast Guard proposes to amend 33 CFR part 165 as follows:

PART 165—REGULATED NAVIGATION AREAS AND LIMITED ACCESS AREAS

1. The authority citation for part 165 continues to read as follows:

Authority: 33 U.S.C. 1231; 50 U.S.C. 191; 33 CFR 1.05-1(g), 6.04-1, 6.04-6, and 160.5; Department of Homeland Security Delegation No. 0170.

2. Add temporary § 165.T01-019 to read as follows:

§ 165.T01-019 Safety Zone; Wiscassett, ME, Maine Yankee Reactor Pressure Vessel Removal.

(a) Locations. The following areas are designated as safety zones:

(1) All waters of the Back River, Montsweag Bay, within 250 yards of the transport barge moored at the Maine Yankee Barge Slip located in the cove between Bailey Point and Foxbird Island.

(2) All waters 250 yards ahead and astern, and 100 yards aside (or to the edge of the navigable channel, whichever is less) of the transport barge during its transit from the Maine Yankee Barge Slip to sea. Specifically, this zone will be enforced until the barge passes abeam of Hendricks Head Light on Southport Island.

(b) Effective date. This section is effective from 12 a.m. EDT on April 15, 2003 until 12 a.m. EDT on June 30, 2003.

(c) Regulations. (1) In accordance with the general regulations in § 165.23 of this part, entry into or movement within this zone is prohibited unless authorized by the Captain of the Port (COTP), Portland, Maine or his designated representative.

(2) All persons and vessels shall comply with the instructions of the COTP, or the designated on-scene U.S. Coast Guard representative. On-scene Coast Guard patrol personnel include commissioned, warrant, and petty officers of the Coast Guard on board Coast Guard, Coast Guard Auxiliary, and local, state, and federal law enforcement vessels.

Dated: April 7, 2003.
Wyman W. Briggs,
Commander, U. S. Coast Guard, Captain of the Port, Portland, Maine, Acting.

[FR Doc. 03-9722 Filed 4-18-03; 8:45 am]

BILLING CODE 4910-15-P